FEDERAL COMMUNICATIONS COMMISSION

Public Information Collections Approved by Office of Management and Budget

September 3, 2010.

The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Contact Michael C. Smith, Federal Communications Commission, (202) 418-0584 or via the Internet at MichaelC.Smith@fcc.gov.

SUPPLEMENTARY INFORMATION: OMB Control No.: 3060-1135.

Expiration Date: 8/31/2013.

Title: Rules Authorizing the Operation of Low Power Auxiliary Stations (including Wireless Microphones).

Form No.: N/A.

Estimated Annual Burden: 127,500 responses; 31,875 total annual hours; .25 hours per response.

Needs and Uses: In the Report and Order ¹ in WT Docket No. 08-166, WT Docket No. 08-167, ET Docket No. 10-24, FCC 10-16, adopted January 14, 2010 and released on January 15, 2010, the Federal Communications Commission (“Commission”) modified the rules authorizing the operation of low power auxiliary stations (wireless microphones). The Report and Order requires all wireless microphones to cease operations in the 700 MHz Band (698-806 MHz) no later than June 12, 2010, making the band available for use by public safety entities such as police, fire, emergency services, and commercial licensees.

¹ Revisions to Rules Authorizing the Operation of Low Power Auxiliary Stations in the 698-806 MHz Band; Public Interest Spectrum Coalition, Petition for Rulemaking Regarding Low Power Auxiliary Stations, Including Wireless Microphones, and the Digital Television Transition; Amendment of Parts 15, 74 and 90 of the Commission's Rules Regarding Low Power Auxiliary Stations, Including Wireless Microphones, WT Docket Nos. 08-166, 08-167, ET Docket No. 10-24, Report and Order and Further Notice of Proposed Rulemaking, FCC 10-16 (rel. January 15, 2010); 75 FR 3622 (January 22, 2010).

To effectuate the Commission's plan to clear wireless microphones from the 700 MHz Band, the Report and Order provides an early clearing mechanism for the 700 MHz Band; requires that any person who manufactures wireless microphones or sells, leases, or offers them for sale or lease must display a disclosure at the point of sale or lease that informs consumers of the conditions that apply to the operation of wireless microphones in the core TV bands; and requires any person who manufactures, sells, leases, or offers for sale or lease, wireless microphones capable of operating in the 700 MHz Band that are destined for non U.S. markets, to include labeling that makes clear that the devices cannot be operated in the United States.

On January 22, 2010, the Commission requested emergency approval of the information collection requirements from the Office of Management and Budget (OMB).² On February 17, 2010, the Commission received OMB approval.³ The OMB control number for this collection is 3060-1135.

² See Notice of Public Information Collection(s) Being Submitted for Review and Approval to the Office of Management and Budget (OMB), Comments Requested, 75 FR 3731 (January 22, 2010).

³ See Revisions to Rules Authorizing the Operation of Low Power Auxiliary Stations in the 698-806 MHz Band; Public Interest Spectrum Coalition, Petition for Rulemaking Regarding Low Power Auxiliary Stations, Including Wireless Microphones, and the Digital Television Transition; Public Information Collection Approved by Office of Management and Budget, 75 FR 9113 (March 1, 2010).

After publishing notice of its intent to revise this collection,⁴ the Commission submitted its request for revision to OMB on July 20, 2010. The revision was requested to both extend the expiration date of the collection and to eliminate the now obsolete early clearing mechanism. This revised collection, without the early clearing mechanism and its associated responses and burden hours, is identical to the previous collection in all other respects. The Office of Management and Budget approved this revised collection on August 27, 2010.

⁴ See Notice of Public Information Collection(s) Being Reviewed by the Federal Communications Commission, Comments Requested, 75 FR 25254 (May 7, 2010).

As noted previously, this information collection will be used to ensure that these microphones do not continue to be used or continue to be made available for use in the United States in the 700 MHz Band, in contravention of the steps taken by the Commission to make the 700 MHz Band available for use by public safety entities and commercial licensees, and to provide them a home in the core TV spectrum.

The Commission recognizes that a significant number of currently unauthorized users of wireless microphones and other low power auxiliary stations in the 700 MHz Band may have to purchase new equipment to transition into the core TV bands pursuant to our temporary waivers. Our intention in requiring display of the Consumer Disclosure is to make certain that these users understand their rights and obligations regarding the use of low power auxiliary stations in the core TV bands. This Consumer Disclosure should help assure that purchasers of low power auxiliary stations operate their devices in a manner in compliance with our rules and policies and thereby do not cause interference to authorized radio services in the core TV bands.

Federal Communications Commission.
Marlene H. Dortch,
Secretary.

[FR Doc. 2010-23159 Filed 9-15-10; 8:45 am]

BILLING CODE 6712-01-P